DEPARTMENT OF ENERGY

Federal Energy Regulatory Commission

[Docket No. RM01-5-000; RM95-3-000]

Electronic Tariff Filings; Filing and Reporting Requirements for Interstate Natural Gas Company Rate Schedules and Tariffs; Notice of Updated and Combined Instruction Manuals

Take notice that today the Commission's Instruction Manual for Electronic Filing of Rate Filings (Instruction Manual) applicable to rate filings made pursuant to Part 154 of the Commission's regulations ¹ has been updated. The updates reflect the changes in electronic filing requirements, data elements and acceptable file types instituted by Order No. 714 for tariff filings,² and updated contact information. In addition, the Instruction Manual has been combined with and made an Appendix to the Implementation Guide for Electronic Filing of Parts 35, 154, 284, 300, and 341 Tariff Filings.³ Other than the addition of the Appendix, there are no other changes to the Implementation Guide.

¹ 18 CFR part 154 (2013). The Instruction Manual for Electronic Filing of Rate Filings was issued pursuant to Filing and Reporting Requirements for Interstate Natural Gas Company Rate Schedules and Tariffs, Order No. 582, FERC Statutes and Regulations, Regulations Preambles January 1991-June 1996 ¶ 31,025 (1995).

² Electronic Tariff Filings, Order No. 714, FERC Statutes and Regulations ¶ 31,276 (2008).

³ Implementation Guide for Electronic Filing of Parts 35, 154, 284, 300, and 341 Tariff Filings available at http://www.ferc.gov/docs-filing/etariff/implementation-guide.pdf (Implementation Guide).

For more information, contact Keith Pierce, Office of Energy Market Regulation at (202) 502-8525, or send an email to FERConline@ferc.gov.

Dated: April 29, 2014.
Kimberly D. Bose,
Secretary.

[FR Doc. 2014-10315 Filed 5-5-14; 8:45 am]

BILLING CODE 6717-01-P